NUCLEAR REGULATORY COMMISSION

10 CFR Chapter I

RIN 3150-AH84

Expanded Definition of Byproduct Material; Notification of Waiver Termination

AGENCY: Nuclear Regulatory Commission.

ACTION: Notice of waiver termination.

SUMMARY: This document announces that on November 30, 2007, in accordance with Section 651(e) of the Energy Policy Act of 2005 and the provisions of the “Plan for the Transition of Regulatory Authority Resulting from the Expanded Definition of Byproduct Material” (transition plan) issued by the U.S. Nuclear Regulatory Commission (Commission or NRC) on October 19, 2007 (72 FR 59157), the Commission determined that the States listed below have a program to license byproduct material, as defined in Sections 11e.(3) and (4) of the Atomic Energy Act of 1954, as amended, that is adequate to protect the public health and safety. This determination is based on certifications provided to the Commission by Governors of these States.

Alabama, Arizona, Arkansas, California, Colorado, Florida, Georgia, Iowa, Illinois, Kansas, Kentucky, Louisiana, Massachusetts, Maine, Maryland, Minnesota, Mississippi, Nebraska, Nevada, New Hampshire, New Mexico, New York, North Carolina, North Dakota, Ohio, Oklahoma, Oregon, Rhode Island, South Carolina, Tennessee, Texas, Utah, Washington, and Wisconsin.

In accordance with Section 651(e)(4)(C)(iii) of the Energy Policy Act of 2005, the Agreements entered into between the Commission and each of these States under Section 274b. of the Atomic Energy Act of 1954, as amended, are considered to include byproduct material as defined in Sections 11e.(3) and (4) as of October 19, 2007.

Accordingly, on November 30, 2007, the Commission terminated the time-limited waivers of the Energy Policy Act of 2005 requirements granted by the Commission (70 FR 51581; August 31, 2005) to the each of these States. Users of the newly added byproduct material currently licensed or registered by these States will continue to be subject to the State regulatory authority.

FOR FURTHER INFORMATION CONTACT: Kim K. Lukes, Office of Federal and State Materials and Environmental Management Programs, U.S. Nuclear Regulatory Commission, Washington, DC 20555-0001, telephone (301) 415-6701 or e-mail kxk2@nrc.gov.

SUPPLEMENTARY INFORMATION: Copies of the Governors' certifications and the Commission's decision may be reviewed at the NRC Web site http://www.nrc.gov.

Dated at Rockville, Maryland, this 28th day of November 2007.
For the Nuclear Regulatory Commission.
Annette L. Vietti-Cook,
Secretary of the Commission.

[FR Doc. E7-23470 Filed 12-3-07; 8:45 am]

BILLING CODE 7590-01-P